SMALL BUSINESS ADMINISTRATION

[License No. 06/06-0346]

Stellus Capital SBIC, L.P.; Notice Seeking Exemption Under Section 312 of the Small Business Investment Act, Conflicts of Interest

Notice is hereby given that Stellus Capital SBIC, L.P., 4400 Post Oak Parkway, Suite 2200, Houston, TX 77027, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Stellus Capital SBIC, L.P. proposes to provide loan financing to KelleyAmerit Holdings, Inc. (d/b/a Amerit Fleet Solutions), 1331 North California Blvd., Suite 150, Walnut Creek, CA 94596.

The financing is brought within the purview of § 107.730(a)(4) of the Regulations because Stellus Capital SBIC, L.P., seeks to purchase the loan financing to KelleyAmerit Holdings, Inc. from Stellus Capital Investment Corp., an Associate of Stellus Capital SBIC, L.P. Therefore, this transaction is considered discharging an obligation of an Associate, requiring a prior SBA exemption.

Notice is hereby given that any interested person may submit written comments on this transaction within fifteen days of the date of this publication to the Associate Administrator, Office of Investment and Innovation, U.S. Small Business Administration, 409 Third Street SW, Washington, DC 20416.

A. Joseph Shepard,
Associate Administrator for Office of Investment and Innovation.

[FR Doc. 2018-16414 Filed 7-31-18; 8:45 am]

BILLING CODE P